DEPARTMENT OF AGRICULTURE

Food and Nutrition Service

Agency Information Collection Activities: Proposed Collection; Comment Request—Supplemental Nutrition Assistance Program (SNAP), Request for Administrative Review—Food Retailers and Wholesalers

AGENCY: Food and Nutrition Service (FNS), USDA.

ACTION: Notice.

SUMMARY: In accordance with the Paperwork Reduction Act of 1995, this notice invites the general public and other public agencies to comment on this proposed information collection. This collection is a revision of a currently approved collection for the Supplemental Nutrition Assistance Program (SNAP), Request for Administrative Review.

DATES: Written comments must be received on or before June 11, 2018.

ADDRESSES: Comments are invited on (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Shanta Swezy, Chief, Administrative Review Branch, Food and Nutrition Service, U.S. Department of Agriculture, 3101 Park Center Drive, Room 426, Alexandria, Virginia 22302. Comments may also be submitted via fax to the attention of Shanta Swezy at (703) 305-2821 or via email to rpmdhq-web@fns.usda.gov. Comments will also be accepted through the Federal eRulemaking Portal. Go to http://www.regulations.gov, and follow the online instructions for submitting comments electronically.

All responses to this notice will be summarized and included in the request for Office and Management and Budget approval. All comments will be a matter of public record.

FOR FURTHER INFORMATION CONTACT: Requests for additional information should be directed to Shanta Swezy, (703) 305-2238.

SUPPLEMENTARY INFORMATION: Title: Request for Administrative Review.

OMB Number: 0584-0520.

Expiration Date: September 30, 2018.

Type of Request: Revision of a currently approved collection.

Abstract: The Food and Nutrition Service (FNS) of the U.S. Department of Agriculture is the Federal agency responsible for the Supplemental Nutrition Assistance Program (SNAP). The Food and Nutrition Act of 2008, as amended, (7 U.S.C. 2011-2036) requires that FNS determine the eligibility of retail food stores and certain food service organizations in order to participate in SNAP. If a food retailer or wholesale food concern is aggrieved by certain administrative action by FNS, that store has the right to file a written request for review of the administrative action with FNS.

Affected Public: Business-for-profit: Retail food stores and wholesale food concerns.

Estimated Number of Respondents: 1,282.

Number of Responses per Respondent: 1.2

Estimated Total Annual Response per Respondent: 1,538.4.

Estimated Time per Response: Public reporting burden for this collection of information is estimated to average 0.17 of an hour per response.

Estimated Total Annual Burden on Respondents: 262.00 hours.

Dated: March 12, 2018.
Brandon Lipps,
Administrator, Food and Nutrition Service.

[FR Doc. 2018-07339 Filed 4-9-18; 8:45 am]

BILLING CODE 3410-30-P